DEPARTMENT OF COMMERCE

Bureau of Industry and Security

15 CFR Part 744

[Docket No. 120416415-2415-01]

RIN 0694-AF57

Addition of Certain Persons to the Entity List; and Implementation of Entity List Annual Review Changes

AGENCY: Bureau of Industry and Security, Commerce.

ACTION: Final rule.

SUMMARY: This rule amends the Export Administration Regulations (EAR) by adding to the Entity List two persons who have been determined by the U.S. Government to be acting contrary to the national security or foreign policy interests of the United States. These persons will be listed on the Entity List under the country of France.

This rule also amends the Entity List on the basis of the annual review of the Entity List conducted by the End-User Review Committee (ERC). The ERC conducts the annual review to determine if any entries on the Entity List should be removed or modified. This rule reflects the results of the ERC's annual review of fifteen countries, i.e. Armenia, Belarus, Egypt, Germany, Iran, Ireland, Israel, Kuwait, Lebanon, Norway, Russia, South Korea, Syria, the United Arab Emirates (U.A.E.), and the United Kingdom (U.K.). As a result of these reviews, this rule makes amendments to the Entity List including: The removal of three entries (one each in Germany, South Korea, and the United Arab Emirates (U.A.E.)); the addition of four entities (one each in Canada, Egypt, France and the United Kingdom); and the amendments of seventeen entries to provide alternate addresses, alternate spellings of names, and/or aliases for listed persons. The amended entries are in Armenia, Germany, Iran, Lebanon, Syria, and the U.A.E. sections of the Entity List.

The Entity List provides notice to the public that certain exports, reexports, and transfers (in-country) to entities identified on the Entity List require a license from the Bureau of Industry and Security (BIS) and that availability of license exceptions in such transactions is limited.

DATES: Effective Date: This rule is effective April 25, 2012.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744) provides notice to the public that certain exports, reexports, and transfers (in-country) to entities identified on the Entity List require a license from the Bureau of Industry and Security and that the availability of license exceptions in such transactions is limited. Entities are placed on the Entity List on the basis of certain sections of part 744 (Control Policy: End-User and End-Use Based) of the EAR.

The ERC, composed of representatives of the Departments of Commerce (Chair), State, Defense, Energy and, when appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add two persons, located in France, to the Entity List on the basis of Section 744.11 (license requirements that apply to entities acting contrary to the national security or foreign policy interests of the United States) of the EAR. The ERC reviewed Section 744.11(b) (Criteria for revising the Entity List) in making the determination to add the two persons located in France to the Entity List. Under that paragraph, persons for which there is reasonable cause to believe, based on specific and articulable facts, that the persons have been involved, are involved, or pose a significant risk of being or becoming involved in, activities that are contrary to the national security or foreign policy interests of the United States and those acting on behalf of such persons may be added to the Entity List pursuant to Section 744.11. Paragraphs (b)(1)-(b)(5) of Section 744.11 include an illustrative list of activities that could be contrary to the national security or foreign policy interests of the United States.

The ERC has reasonable cause to believe that the two persons in France (one company and one individual, an employee of the company) have been involved, are involved, or pose a significant risk of being or becoming involved in, activities that could be contrary to the national security or foreign policy interests of the United States. Specifically, BIS's investigation of the company, Toulouse Air Spares SAS, indicates direct physical and corporate nexus with Aerotechnic France SAS, an Entity List person (76 FR 37632, 6/28/2011). Therefore, pursuant to Section 744.11(b)(5) of the EAR, the ERC determined that the company Toulouse Air Spares SAS and Laurence Mattiucci, the company's president, are engaging in conduct that poses a risk of violating the EAR and that such conduct raises sufficient concern that prior review of exports, reexports or transfers (in-country) of items subject to the EAR involving either of the two persons, and the possible imposition of license conditions or license denials, will enhance BIS's ability to prevent violations of the EAR.

For both of the persons added to the Entity List, the ERC specified a license requirement for all items subject to the EAR and established a license application review policy of a presumption of denial. The license requirement applies to any transaction in which items are to be exported, reexported, or transferred (in-country) to such persons or in which such persons act as purchaser, intermediate consignee, ultimate consignee, or end-user. In addition, no license exceptions are available for exports, reexports, or transfers (in-country) to those persons being added to the Entity List.

This final rule adds the following two persons to the Entity List:

France

(1) Toulouse Air Spares SAS, 8 Rue de la Bruyere, 31120 Pinsaguel, Toulouse, France; and

(2) Laurence Mattiucci, 8 Rue de la Bruyere, 31120 Pinsaguel, Toulouse, France.

Annual Review of the Entity List

This rule also amends the Entity List on the basis of the annual review of the Entity List conducted by the ERC, in accordance with the procedures outlined in Supplement No. 5 to part 744 (Procedures for End-User Review Committee Entity List Decisions). The changes from the annual review of the Entity List that are approved by the ERC are implemented in stages as the ERC completes its review of entities listed under different destinations on the Entity List. This rule implements the results of the annual review for entities listed under Armenia, Germany, Iran, Lebanon, South Korea, Syria, and the U.A.E.

A. Removals From the Entity List Based on the Annual Review

This rule removes two entities from the Entity List, consisting of one entity from Germany and one entity from South Korea, on the basis of the annual review of the Entity List. Specifically, this rule implements the decision of the ERC to remove the following two entities:

Germany

(1) Akbar Ashraf Vaghefi, Koburgerstr 10, D-10825, Berlin, Germany.

South Korea

(1) WASTEC, Inc., a.k.a., With Advanced Systemic Technology, Room 3303, 3304, Na-Dong Chungang Circulation Complex, #1258, Gurobon-Dong, Guro-gu, Seoul, South Korea.

The removal of the above-referenced two entities from the Entity List eliminates the existing license requirements in Supplement No. 4 to part 744 for exports, reexports, and transfers (in-country) to the two entities. However, the removal of these two entities from the Entity List does not relieve persons of other obligations under part 744 of the EAR or under other parts of the EAR. Neither the removal of an entity from the Entity List nor the removal of Entity List-based license requirements relieves persons of their obligations under General Prohibition 5 in section 736.2(b)(5) of the EAR which provides that, “you may not, without a license, knowingly export or reexport any item subject to the EAR to an end-user or end-use that is prohibited by part 744 of the EAR.” Additionally these removals do not relieve persons of their obligation to apply for export, reexport or in-country transfer licenses required by other provisions of the EAR. BIS strongly urges the use of Supplement No. 3 to part 732 of the EAR, “BIS's `Know Your Customer' Guidance and Red Flags,” when persons are involved in transactions that are subject to the EAR.

This rule, pursuant to the ERC's annual review, also removes a third entity from the Entity List, consisting of one entry from the U.A.E. However, this person's name will be added as an alias for another person listed on the Entity List, also under the U.A.E. Therefore, this removal does not remove license requirements for this person. Instead, the addition of the entry as an alias to another listed entity will more clearly identify the relationship between these two persons listed on the Entity List. Specifically, this rule consolidates the entry for “S. Basheer” (i.e., removes and adds to another entry on the Entity List) as a new alias for the revised “Shaji Muhammed Basheer” entry, as follows:

United Arab Emirates

(1) Shaji Muhammed Basheer, a.k.a., the following alias:

—S. Basheer.

Shop No. 3 & 4, Sharafia Ahmed Ali Bldg., Al Nakheel St., Deira, P.O. Box 171978, Dubai, U.A.E.

B. Modifications to the Entity List Based on the Annual Review

On the basis of decisions made by the ERC during the annual review, in addition to modifying the U.A.E. entry as described above, this rule amends sixteen entries currently on the Entity List, consisting of one entry under Armenia, three entries under Germany, ten entries under Iran, one entry under Lebanon, and one entry under Syria, to provide alternate addresses, alternate spellings for the names of the listed persons, and/or aliases, as follows:

Armenia

(1) Bold Bridge International, LLC, a.k.a., the following alias:

—BB Bold Bridge International.

Room 463, H. Hakobyan 3, Yerevan, Armenia.

Germany

(1) Djamshid Nezhad, a.k.a., the following alias:

—Nezhad Djamshid.

Poppentrade 25, D-24148 Kiel, Germany; and Moesemann 2, 24144, Hamburg, Germany.

(2) IKCO Trading GmbH,

Schadowplatz 5, 40212 Dusseldorf, Germany; and Kaiserswerther Str. 117, 40474, Düsseldorf, Germany; and

(3) Nezhad Enterprise Company, a.k.a., the following three aliases:

—Nezhad Co.;

—Nezhad Enterprise; and

—Nezhad Trading.

Poppentrade 25, D-24148 Kiel, Germany; and Moesemann 2, 24144, Hamburg, Germany.

Iran

(1) Atomic Energy Organization of Iran (AEOI), a.k.a., the following two aliases:

—Sazeman-e Energy Atomi; and

—Sazeman-e Enerji-e Atomi.

P.O. Box 14144-1339, End of North Karegar Avenue, Tehran; and P.O. Box 14155-4494, Tehran, Iran; and all locations in Iran.

(2) Kalaye Electric Company, a.k.a., the following four aliases:

—Kala Electric Company;

—Kalia;

—Kala Electric; and

—Kola Electric Company.

33 Fifteenth (15th) Street, Seyed-Jamal-Eddin-Assad Abadi Avenue, Tehran, Iran.

(3) Mahdi Electronics, a.k.a., the following alias:

—Mahdi Electronic Trading Co. Ltd.

Ground Floor—No. 31 Alborz Alley, Enghelab St, Tehran, Iran.

(4) NBC Navegan Bar Co. Ltd., a.k.a., the following alias:

—NBC Navegan Bar International Transport Co. Ltd.

#135 Khorramshahr Ave., Tehran 1533864163; and 101, Kohrramshahr Ave., Tehran 1533864163.

(5) Rad Tavan Afza Company,

3rd Floor, No. 210, W. Fatemi, Tehran, Iran, P.O. Box 14185-387; and 1st Pars Bldg., Beg. Pars Alley, Betw Khosh & Behboudi St., Azadi Ave., Tehran, Iran.

(6) Raht Aseman Co. Ltd.,

No. 1.2, Mosque Alley, Mohammadi St., North Bahar Ave., Tehran, Iran.

(7) Reza Zahedi Pour,

5 Yaas St., Unit 4, Tehran, Iran.

(8) Shahid Bakeri Industrial Group, a.k.a., the following nine aliases:

—SBIG;

—Shahid Baheri Industries Group;

—Shahid Bagheri Industries Group;

—Shahid Bagheri Industrial Group;

—MEHR Trading Company;

—Department 140/14;

—Mahtab Technical Engineering Company;

—Composite Propellant Missile Industry; and

—Sanaye Sokhte Morakab (SSM).

Pasdaran Ave., Tehran, Iran.

(9) Shahid Hemmat Industrial Group, a.k.a., the following six aliases:

—SHIG;

—Shahid Hemat Industrial Group;

—Chahid Hemmat Industrial Group;

—Shahid Hemmat Industrial Complex (SHIC);

—Shahid Hemmat Industrial Factories (SHIF); and

—Hemmat Missile Industries Factory.

Damavand Tehran Highway, Tehran, Iran; and Damavand Road 2, Abali Road, Tehran, Iran; and

(10) Simin Neda Industrial and Electrical Parts, a.k.a., the following alias:

—TTSN.

No. 22, Second Floor, Amjad Bldg., Jomhoori Ave., Tehran, Iran.

Lebanon

(1) EKT Electronics, a.k.a. the following four aliases:

Katrangi Electronics;

—Katrangi Trading;

—Katranji Labs; and

—Electronics Systems.

1st floor, Hujij Building, Korniche Street, P.O. Box 817 No. 3, Beirut, Lebanon; P.O. Box: 8173, Beirut, Lebanon; and #1 fl., Grand Hills Bldg., Said Khansa St., Jnah (BHV), Beirut, Lebanon. (See alternate addresses under Syria.)

Syria

(1) EKT Electronics, a.k.a., the following four aliases:

—Katrangi Electronics;

—Katrangi Trading;

—Katranji Labs; and

—Electronics Systems.

#1 floor, 11/A, Abbasieh Building, Hijaz Street, P.O. Box 10112, Damascus, Syria; and #1 floor, 02/A, Fares Building, Rami Street, Margeh, Damascus, Syria. (See alternate addresses under Lebanon.)

C. Additions to the Entity List on the Basis of the Annual Review and Section 744.11

Finally, on the basis of decisions made by the ERC during the annual review, this rule adds four persons to the Entity List, consisting of one person in Canada, one person in Egypt, one person in France, and one person in the U.K. The decision to add these four persons was made during the annual review and is based on Section 744.11 of the EAR. Similar to the process outlined above for the other Section 744.11 additions described in this rule, the ERC as part of the annual review process reviewed Section 744.11(b) in making the determination to add these four persons.

These four persons are believed to have been involved in activities described under paragraphs (b)(1) and (b)(2) of Section 744.11. Specifically, the two persons located in Canada and Egypt are being added because of their affiliation with EKT Electronics, a person currently listed on the Entity List under Lebanon and Syria. BIS first included EKT Electronics as a listed person under General Order No. 3, which was first published on June 5, 2006, and subsequently amended on September 6, 2006. General Order No. 3 listed persons concerning whom the U.S. Government possessed information regarding the acquisition or attempted acquisition of electronic components and devices capable of being used in improvised explosive devices (IEDs) used against Coalition Forces in Iraq and Afghanistan. These two persons being added are not aliases of EKT Electronics, but are believed to be affiliated and involved in the same types of activities of concern under paragraphs (b)(1) and (b)(2) of Section 744.11 and therefore also warrant being added to the Entity List.

Similarly, the two persons located in France and the U.K. are being added to the Entity List as a result of their affiliation with IKCO Trading GmbH (IKCO), a person currently on the Entity List under Germany. The French and the U.K. persons are involved in the same types of Section 744.11 activities that resulted in IKCO being added to the Entity List on September 22, 2008 (73 FR 54507). BIS first included IKCO as a listed person under General Order No. 3, which was first published on June 5, 2006, and subsequently amended on September 6, 2006. As noted above, General Order No. 3 listed persons concerning whom the U.S. Government possessed information regarding the acquisition or attempted acquisition of electronic components and devices capable of being used in IEDs used against Coalition Forces in Iraq and Afghanistan. These two persons being added are not aliases of IKCO, but are believed to be affiliated and involved in the same types of activities of concern under paragraphs (b)(1) and (b)(2) of Section 744.11 and therefore also warrant being added to the Entity List.

For the four persons added to the Entity List on the basis of the annual review, the ERC specified a license requirement for all items subject to the EAR and established a license application review policy of a presumption of denial. The license requirement applies to any transaction in which items are to be exported, reexported, or transferred (in-country) to such persons or in which such persons act as purchaser, intermediate consignee, ultimate consignee, or end-user. In addition, no license exceptions are available for exports, reexports, or transfers (in-country) to those persons being added to the Entity List.

This final rule adds the following four persons to the Entity List:

Canada

(1) EKT 2, Inc.,

371 Renforth Drive, Etobicoke M9C 2L8, Toronto, Ontario, Canada.

Egypt

(1) AL-AMIR ELECTRONICS,

46 Falaki St. BabLouk Area, Cairo, Egypt.

France

(1) IKCO France,

147 Avenue Charles de Gaulle, 92200, Neuilly-Sur-Seine, France.

United Kingdom

(1) IKCO Finance,

6 Lothbury, London, England, EC2R 7HH.

Savings Clause

Shipments of items removed from eligibility for a License Exception or export or reexport without a license (NLR) as a result of this regulatory action that were en route aboard a carrier to a port of export or reexport, on April 25, 2012, pursuant to actual orders for export or reexport to a foreign destination, may proceed to that destination under the previous eligibility for a License Exception or export or reexport without a license (NLR).

Although the Export Administration Act expired on August 20, 2001, the President, through Executive Order 13222 of August 17, 2001, 3 CFR, 2001 Comp., p. 783 (2002), as extended by the Notice of August 12, 2011, 76 FR 50661 (August 16, 2011), has continued the Export Administration Regulations in effect under the International Emergency Economic Powers Act. BIS continues to carry out the provisions of the Export Administration Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a final rule was published, it would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2011, 76 FR 50661 (August 16, 2011); Notice of September 21, 2011, 76 FR 59001 (September, 22, 2011); Notice of November 9, 2011, 76 FR 70319 (November 10, 2011); Notice of January 19, 2012, 77 FR 3067 (January 20, 2012).

2. Supplement No. 4 to part 744 is amended:

(a) By revising under Armenia, in alphabetical order, one Armenian entity;

(b) By adding under Canada, in alphabetical order, one Canadian entity;

(c) By adding under Egypt, in alphabetical order, one Egyptian entity;

(d) By adding under France, in alphabetical order, three French entities;

(e) By removing under Germany, the German entity: “Akbar Ashraf Vaghefi, Koburgerstr 10, D-10825, Berlin, Germany;”

(f) By revising under Germany, in alphabetical order, three German entities;

(g) By revising under Iran, in alphabetical order, ten Iranian entities;

(h) By revising under Lebanon, in alphabetical order, one Lebanese entity;

(i) By removing the “Country” column for South Korea, including the South Korean entity: “WASTEC, Inc., a.k.a., With Advanced Systemic Technology, Room 3303, 3304, Na-Dong Chungang Circulation Complex, #1258, Gurobon-Dong, Guro-gu, Seoul, South Korea;”

(j) By revising under Syria, in alphabetical order, one Syrian entity;

(k) By removing under the United Arab Emirates, the Emirati entry for “S. Basheer, No. 3-4 Sharafia Ahmed Ali Building, Al Nakheel, Deira, Dubai 396, U.A.E.;”

(l) By revising under the United Arab Emirates, in alphabetical order, one Emirati entity; and

(m) By adding under United Kingdom, in alphabetical order, one British entity.

The additions and revisions read as follows:

Supplement No. 4 to Part 744—Entity List
Country | Entity | License requirement | License review policy | Federal Register citation
* * * * * * *
ARMENIA | Bold Bridge International, LLC, a.k.a. the following alias: —BB Bold Bridge International. Room 463, H. Hakobyan 3, Yerevan, Armenia. | For all items subject to the EAR. (See § 744.11 of the EAR.) | Presumption of denial | 75 FR 1701, 1/13/10. 77 FR [INSERT FR PAGE NUMBER] 4/25/2012.
* * * * * * *
CANADA
* * * * * * *
| EKT 2, Inc., 371 Renforth Drive, Etobicoke M9C 2L8, Toronto, Ontario, Canada | For all items subject to the EAR. (See § 744.11 of the EAR) | Presumption of denial | 77 FR [INSERT FR PAGE NUMBER] 4/25/2012.
* * * * * * *
* * * * * * *
EGYPT | AL-AMIR ELECTRONICS, 46 Falaki St. BabLouk Area, Cairo, Egypt | For all items subject to the EAR. (See § 744.11 of the EAR) | Presumption of denial | 77 FR [INSERT FR PAGE NUMBER] 4/25/2012.
* * * * * * *
FRANCE
* * * * * * *
| IKCO France, 147 Avenue Charles de Gaulle, 92200, Neuilly-Sur-Seine, France | For all items subject to the EAR. (See § 744.11 of the EAR) | Presumption of denial | 77 FR [INSERT FR PAGE NUMBER] 4/25/2012.
| Laurence Mattiucci, 8 Rue de la Bruyere, 31120 Pinsaguel, Toulouse, France | For all items subject to the EAR. (See § 744.11 of the EAR) | Presumption of denial | 77 FR [INSERT FR PAGE NUMBER] 4/25/2012.
* * * * * * *
| Toulouse Air Spares SAS, 8 Rue de la Bruyere, 31120 Pinsaguel, Toulouse, France | For all items subject to the EAR. (See § 744.11 of the EAR) | Presumption of denial | 77 FR [INSERT FR PAGE NUMBER] 4/25/2012.
GERMANY
* * * * * * *
| Djamshid Nezhad, a.k.a. the following alias: —Nezhad Djamshid. | For all items subject to the EAR. (See § 744.11 of the EAR) | Presumption of denial | 73 FR 54504, 9/22/08. 77 FR [INSERT FR PAGE NUMBER] 4/25/2012.
| Poppentrade 25, D-24148 Kiel, Germany; and Moesemann 2, 24144, Hamburg, Germany |  |  |
* * * * * * *
| IKCO Trading GmbH, Schadowplatz 5, 40212 Dusseldorf, Germany; and Kaiserswerther Str. 117, 40474, Düsseldorf, Germany | For all items subject to the EAR. (See § 744.11 of the EAR) | Presumption of denial | 73 FR 54504, 9/22/08. 77 FR [INSERT FR PAGE NUMBER] 4/25/2012.
| Nezhad Enterprise Company, a.k.a. the following three aliases: —Nezhad Co.; —Nezhad Enterprise; and —Nezhad Trading | For all items subject to the EAR. (See § 744.11 of the EAR) | Presumption of denial | 73 FR 54504, 9/22/08. 77 FR [INSERT FR PAGE NUMBER] 4/25/2012.
| Poppentrade 25, D-24148 Kiel, Germany; and Moesemann 2, 24144, Hamburg, Germany |  |  |
* * * * * * *
* * * * * * *
IRAN
* * * * * * *
| Atomic Energy Organization of Iran (AEOI), a.k.a. the following two aliases: —Sazeman-e Energy Atomi; and —Sazeman-e Enerji-e Atomi. | For all items subject to the EAR. (See § 744.11 of the EAR) | Presumption of denial | 72 FR 38008, 07/12/07. 77 FR [INSERT FR PAGE NUMBER] 4/25/2012.
| P.O. Box 14144-1339, End of North Karegar Avenue, Tehran; and P.O. Box 14155-4494, Tehran, Iran; and all locations in Iran |  |  |
* * * * * * *
| Kalaye Electric Company, a.k.a. the following four aliases: —Kala Electric Company; —Kalia; —Kala Electric; and —Kola Electric Company. | For all items subject to the EAR. (See § 744.11 of the EAR) | Presumption of denial | 72 FR 38008, 07/12/07. 77 FR [INSERT FR PAGE NUMBER] 4/25/2012.
| 33 Fifteenth (15th) Street, Seyed-Jamal-Eddin-Assad Abadi Avenue, Tehran, Iran |  |  |
* * * * * * *
| Mahdi Electronics, a.k.a. the following alias: —Mahdi Electronic Trading Co. Ltd. | For all items subject to the EAR. (See § 744.11 of the EAR) | Presumption of denial | 73 FR 74001, 12/5/08. 77 FR [INSERT FR PAGE NUMBER] 4/25/2012.
| Ground Floor—No. 31 Alborz Alley, Enghelab St., Tehran, Iran |  |  |
* * * * * * *
| NBC Navegan Bar Co. Ltd., a.k.a. the following alias: —NBC Navegan Bar International Transport Co. Ltd. | For all items subject to the EAR. (See § 744.11 of the EAR) | Presumption of denial | 73 FR 54507, 9/22/08. 76 FR 21628, 4/18/11. 77 FR [INSERT FR PAGE NUMBER] 4/25/2012.
| #135 Khorramshahr Ave., Tehran 1533864163; and 101, Kohrramshahr Ave., Tehran 1533864163 |  |  |
* * * * * * *
| Rad Tavan Afza Company, 3rd Floor, No. 210, W. Fatemi, Tehran, Iran, P.O. Box 14185-387; and 1st Pars Bldg., Beg. Pars Alley, Betw Khosh & Behboudi St., Azadi Ave., Tehran, Iran | For all items subject to the EAR. (See § 744.11 of the EAR) | Presumption of denial | 73 FR 54507, 9/22/08. 77 FR [INSERT FR PAGE NUMBER] 4/25/2012.
| Raht Aseman Co. Ltd., No. 1.2, Mosque Alley, Mohammadi St., North Bahar Ave., Tehran, Iran | For all items subject to the EAR. (See § 744.11 of the EAR) | Presumption of denial | 73 FR 74001, 12/5/08. 77 FR [INSERT FR PAGE NUMBER] 4/25/2012.
* * * * * * *
| Reza Zahedi Pour, 5 Yaas St., Unit 4, Tehran, Iran | For all items subject to the EAR. (See § 744.11 of the EAR) | Presumption of denial | 73 FR 74001, 12/5/08. 77 FR [INSERT FR PAGE NUMBER] 4/25/2012.
* * * * * * *
| Shahid Bakeri Industrial Group, a.k.a. the following nine aliases: —SBIG; —Shahid Baheri Industries Group; —Shahid Bagheri Industries Group; —Shahid Bagheri Industrial Group; —MEHR Trading Company; —Department 140/14; —Mahtab Technical Engineering Company; —Composite Propellant Missile Industry; and —Sanaye Sokhte Morakab (SSM). | For all items subject to the EAR. (See § 744.11 of the EAR) | Presumption of denial | 72 FR 38008, 07/12/07. 77 FR [INSERT FR PAGE NUMBER] 4/25/2012.
| Pasdaran Ave., Tehran, Iran. |  |  |
| Shahid Hemmat Industrial Group, a.k.a. the following six aliases: —SHIG; —Shahid Hemat Industrial Group; —Chahid Hemmat Industrial Group; —Shahid Hemmat Industrial Complex (SHIC); —Shahid Hemmat Industrial Factories (SHIF); and —Hemmat Missile Industries Factory. | For all items subject to the EAR. (See § 744.11 of the EAR) | Presumption of denial | 72 FR 38008, 07/12/07. 77 FR [INSERT FR PAGE NUMBER] 4/25/2012.
| Damavand Tehran Highway, Tehran, Iran; Damavand Tehran Highway, Tehran, Iran; and Damavand Road 2, Abali Road, Tehran, Iran. |  |  |
* * * * * * *
| Simin Neda Industrial and Electrical Parts, a.k.a. the following alias: —TTSN. No. 22, Second Floor, Amjad Bldg., Jomhoori Ave., Tehran, Iran. | For all items subject to the EAR. (See § 744.11 of the EAR) | Presumption of denial | 72 FR 38008, 07/12/07. 77 FR [INSERT FR PAGE NUMBER] 4/25/2012.
* * * * * * *
* * * * * * *
LEBANON | EKT Electronics, a.k.a. the following four aliases: —Katrangi Electronics; —Katrangi Trading; —Katranji Labs; and —Electronics Systems. | For all items subject to the EAR. (See § 744.11 of the EAR) | Presumption of denial | 73 FR 54507, 9/22/08. 77 FR [INSERT FR PAGE NUMBER] 4/25/2012.
| 1st floor, Hujij Building, Korniche Street, P.O. Box 817 No. 3, Beirut, Lebanon; P.O. Box: 8173, Beirut, Lebanon; and #1 fl., Grand Hills Bldg., Said Khansa St., Jnah (BHV), Beirut, Lebanon. (See alternate addresses under Syria.) |  |  |
* * * * * * *
* * * * * * *
SYRIA
* * * * * * *
| EKT Electronics, a.k.a. the following four aliases: —Katrangi Electronics; —Katrangi Trading; —Katranji Labs; and —Electronics Systems. | For all items subject to the EAR. (See § 744.11 of the EAR) | Presumption of denial | 73 FR 54509, 9/22/08. 76 FR 50407, 8/15/11. 77 FR [INSERT FR PAGE NUMBER] 4/25/2012.
| #1 floor, 11/A, Abbasieh Building, Hijaz Street, P.O. Box 10112, Damascus, Syria; and #1 floor, 02/A, Fares Building, Rami Street, Margeh, Damascus, Syria (See alternate addresses under Lebanon) |  |  |
* * * * * * *
* * * * * * *
* * * * * * *
UNITED ARAB EMIRATES | Shaji Muhammed Basheer, a.k.a. the following alias: —S. Basheer. | For all items subject to the EAR. (See § 744.11 of the EAR.) | Presumption of denial | 77 FR [INSERT FR PAGE NUMBER] 4/25/2012.
| Shop No. 3 & 4, Sharafia Ahmed Ali Bldg., Al Nakheel St., Deira, P.O. Box 171978, Dubai, U.A.E |  |  |
* * * * * * *
UNITED KINGDOM
* * * * * * *
| IKCO Finance 6 Lothbury, London, England, EC2R 7HH | For all items subject to the EAR. (See § 744.11 of the EAR) | Presumption of denial | 77 FR [INSERT FR PAGE NUMBER] 4/25/2012.
* * * * * * *
* * * * * * *

Dated: April 18, 2012.
Kevin J. Wolf,
Assistant Secretary for Export Administration.

[FR Doc. 2012-9905 Filed 4-24-12; 8:45 am]

BILLING CODE 3510-33-P